DEPARTMENT OF JUSTICE

Antitrust Division

Notice Pursuant to the National Cooperative Research and Production Act Of 1993—Border Security Technology Consortium

Notice is hereby given that, on April 18, 2019, pursuant to Section 6(a) of the National Cooperative Research and Production Act of 1993, 15 U.S.C. 4301 et seq. (“the Act”), Border Security Technology Consortium (“BSTC”) has filed written notifications simultaneously with the Attorney General and the Federal Trade Commission disclosing changes in its membership. The notifications were filed for the purpose of extending the Act's provisions limiting the recovery of antitrust plaintiffs to actual damages under specified circumstances. Specifically, Navmar Applied Sciences Corp., Warminster, PA; SecureInsights, LLC, Washington, DC; TransCore ITS, LLC, Harrisburg, PA; BEI Communications, Inc., DBA BEI Security, San Antonio, TX; Perceptics, LLC, Farragut, TN; Tribalco, LLC, Bethesda, MD; Surface Optics Corporation, San Diego, CA; ITI Solutions, Inc., San Antonio, TX; Redstone Aviation Group, LLC, Huntsville, AL; Gatekeeper Inc., Sterling, VA; AECOM Management Services, Inc., Germantown, MD; Solute, Inc., San Diego, CA; Garud Technology Services, Inc., Ellicott City, MD; MRIGlobal, Kansas City, MO; Harrison Holdings International, LLC, Vienna, VA; and Peraton, Inc., Herndon, VA, have been added as parties to this venture.

Also, Qual-Tron, Inc., Tulsa, OK; McQ, Fredericksburg, VA; Lukos, LLC, Tampa, FL; CACI-CMS Information Systems, Inc., Fairfax, VA; CCSN, LLC, Guynabo, PR; CLS America, Lanham, MD; Command Consulting Group, Washington, DC; EADS-NA, Hernon, VA; Exelis, Inc., For Wayne, IN; Innovative Wireless Technologies, Lynchburg, VA; Liquid Robotics, Sunnyvale, CA; List Innovative Solutions, Herndon, VA; PwC Public Sector, McLean, VA; QuickFlex Inc., San Antonio, TX; Red Team Defense Group, Spring Branch, TX; Salient Federal Solutions, Fairfax, VA; SAS Institute, Cary, NC; STARA Technologies, Inc., Gilbert, AZ; Teradata Federal Systems, Inc., Annapolis Junction, MD; Terma North America, Inc., Arlington, VA; Transcend Engineering and Technology, LLC, Gaysville, VT; Ultra Electronics-Prologic, Manassas, VA; ViON Corporation, Herndon, VA; and Worldwide Aeros Corp., Montebello, CA, have withdrawn as parties to this venture.

No other changes have been made in either the membership or planned activity of the group research project. Membership in this group research project remains open, and BSTC intends to file additional written notifications disclosing all changes in membership.

On May 30, 2012, BSTC filed its original notification pursuant to Section 6(a) of the Act. The Department of Justice published a notice in the Federal Register pursuant to Section 6(b) of the Act on June 18, 2012 (77 FR 36292).

The last notification was filed with the Department on February 1, 2019. A notice was published in the Federal Register pursuant to section 6(b) of the Act on February 28, 2019 (84 FR 6824).

Suzanne Morris,
Chief, Premerger and Division Statistics Unit, Antitrust Division.

[FR Doc. 2019-10325 Filed 5-16-19; 8:45 am]

BILLING CODE 4410-11-P